DEPARTMENT OF TRANSPORTATION

Federal Motor Carrier Safety Administration

[Docket No. FMCSA-2019-0230]

Qualification of Drivers; Exemption Applications; Implantable Cardioverter Defibrillators

AGENCY: Federal Motor Carrier Safety Administration (FMCSA), DOT.

ACTION: Notice of applications for exemption; request for comments.

SUMMARY: FMCSA announces receipt of applications from six individuals for an exemption from the prohibition in the Federal Motor Carrier Safety Regulations (FMCSRs) against operation of a commercial motor vehicle (CMV) by persons with a current clinical diagnosis of myocardial infarction, angina pectoris, coronary insufficiency, thrombosis, or any other cardiovascular disease of a variety known to be accompanied by syncope (transient loss of consciousness), dyspnea (shortness of breath), collapse, or congestive heart failure. If granted, the exemptions would enable these individuals with implantable cardioverter defibrillators (ICDs) to operate CMVs in interstate commerce.

DATES: Comments must be received on or before December 5, 2019.

ADDRESSES: You may submit comments identified by the Federal Docket Management System (FDMS) Docket ID FMCSA-2019-0230 using any of the following methods:

• Federal eRulemaking Portal: Go to http://www.regulations.gov/docket?D=FMCSA-2019-0230. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., ET, Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., ET, Monday through Friday, except Federal holidays. If you have questions regarding viewing or submitting material to the docket, contact Docket Operations, (202) 366-9826.

SUPPLEMENTARY INFORMATION:

I. Public Participation

A. Submitting Comments

If you submit a comment, please include the docket number for this notice (Docket No. FMCSA-2019-0230), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go http://www.regulations.gov/docket?D=FMCSA-2019-0230. Click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well as any documents mentioned in this notice as being available in the docket, go to http://www.regulations.gov/docket?D=FMCSA-2019-0230 and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

Under 49 U.S.C. 31136(e) and 31315(b), FMCSA may grant an exemption from the FMCSRs for no longer than a 5-year period if it finds such exemption would likely achieve a level of safety that is equivalent to, or greater than, the level that would be achieved absent such exemption. The statute also allows the Agency to renew exemptions at the end of the 5-year period. FMCSA grants medical exemptions from the FMCSRs for a 2-year period to align with the maximum duration of a driver's medical certification.

The six individuals listed in this notice have requested an exemption from 49 CFR 391.41(b)(4). Accordingly, the Agency will evaluate the qualifications of each applicant to determine whether granting the exemption will achieve the required level of safety mandated by statute.

The physical qualification standard found in § 391.41(b)(4) states that a person is physically qualified to drive a CMV if that person has no current clinical diagnosis of myocardial infarction, angina pectoris, coronary insufficiency, thrombosis, or any other cardiovascular disease of a variety known to be accompanied by syncope, dyspnea, collapse, or congestive cardiac failure.

In addition to the regulations, FMCSA has published advisory criteria ¹ to assist medical examiners in determining whether drivers with certain medical conditions are qualified to operate a CMV in interstate commerce. The advisory criteria states that ICDs are disqualifying due to risk of syncope.

¹ These criteria may be found in 49 CFR part 391, APPENDIX A TO PART 391—MEDICAL ADVISORY CRITERIA, section D. Cardiovascular: § 391.41(b)(4), paragraph 4, which is available on the internet at https://www.gpo.gov/fdsys/pkg/CFR-2015-title49-vol5/pdf/CFR-2015-title49-vol5-part391-appA.pdf.

III. Qualifications of Applicants

John Gittenmeier

Mr. Gittenmeier is a commercial motor vehicle driver in Missouri. An August 2019, letter from Mr. Gittenmeier's cardiologist reports that his ICD was implanted in May of 2018, and that he denies any symptoms of palpitations, rapid heartbeat, shortness of breath, chest pains, syncope, or edema. His cardiologist reports that his most recent ejection fraction in 2018, was 40 percent.

Charles Huff

Mr. Huff is a commercial motor vehicle driver in Ohio. A July 2019, letter from his cardiologist reports that his ICD was implanted in 2012. Mr. Huff's cardiologist reports that he has episodes of non-sustained ventricular arrhythmia but has no countershock, that he had ATPs, (antitachycardia pacing) and that his ejection fraction is around 40 percent. Mr. Huff has an “Intrastate Only” Ohio Public Utilities Medical Examiner's Provisional Certificate that expires December 8, 2019. Mr. Huff seeks to operate a CMV in interstate commerce into the States of Indiana, Pennsylvania, and Michigan, for a distance of no more than 50 miles for a two-year period for each of the three States.

Brian Hullopeter

Mr. Hullopeter is a commercial motor vehicle driver in Minnesota. A July 2019, letter from his cardiologists reports that Mr. Hullopeter's ICD device was implanted in May of 2017, and has not deployed. His last echocardiogram showed normal left ventricular size and function.

Gaetano Letizia

Mr. Letizia is commercial driver in New Jersey. Letters dated July 2019, from his cardiologists report that Mr. Gaetano's CRT-ICD was implanted in September 2017, and over the past year he has not received any shocks or therapies from the defibrillator. His most recent June 2019, ejection fraction was measured between 35 and 40 percent. His cardiologist's letter reports that he is stable from a cardiac standpoint.

Corey Tugwell

Mr. Tugwell is a Class A CDL holder in Oklahoma. A September 2019, letter from Mr. Tugwell's cardiologist reports that his initial ICD implantation was in July of 2011. His cardiologist reports that Mr. Tugwell has not had syncope for many years, and he has never demonstrated any life-threatening arrhythmias or received appropriate ICD shocks since initial implantation, that he has an ejection fraction of 50-55 percent, and his cardiomyopathy has resolved and his current risk of life-threatening arrhythmias or ICD shocks appears to be very low.

Thomas Daniel Worsley

Mr. Worsley is a commercial motor vehicle driver in Virginia. A July 2019, letter from Mr. Worsley's cardiologist reports that his biventricular pacemaker/ICD was implanted in October 2018, his ejection fraction is 52 percent, he is asymptomatic and physically very active. Mr. Worsley's cardiologist reports that he is at extremely low risk for any sudden cardiac death as he now has a normal ejection fraction and an implantable defibrillator which he states that by recent studies has been shown to work 99 percent of the time.

Request for Comments

In accordance with 49 U.S.C. 31136(e) and 31315(b), FMCSA requests public comment from all interested persons on the exemption petitions described in this notice. We will consider all comments received before the close of business on the closing date indicated under the DATES section of the notice.

Issued on: October 30, 2019.
Larry W. Minor,
Associate Administrator for Policy.

[FR Doc. 2019-24101 Filed 11-4-19; 8:45 am]

BILLING CODE 4910-EX-P